DEPARTMENT OF THE INTERIOR

Fish and Wildlife Service

[FWS-R8-FHC-2011-N083; 81331-1334-8TWG-W4]

Trinity Adaptive Management Working Group

AGENCY: Fish and Wildlife Service, Interior.

ACTION: Notice of meeting.

SUMMARY: The Trinity Adaptive Management Working Group (TAMWG) affords stakeholders the opportunity to give policy, management, and technical input concerning Trinity River (California) restoration efforts to the Trinity Management Council (TMC). The TMC interprets and recommends policy, coordinates and reviews management actions, and provides organizational budget oversight. This notice announces a TAMWG meeting, which is open to the public.

DATES: TAMWG will meet from 9 a.m. to 5 p.m. on Tuesday, May 17, 2011.

ADDRESSES: The meeting will be held at the Weaverville Victorian Inn, 1709 Main Street, Weaverville, CA 96093.

FOR FURTHER INFORMATION CONTACT: Meeting Information: Randy A. Brown, TAMWG Designated Federal Officer, U.S. Fish and Wildlife Service, 1655 Heindon Road, Arcata, CA 95521; telephone: (707) 822-7201. Trinity River Restoration Program (TRRP)Information: Jennifer Faler, Acting Executive Director, Trinity River Restoration Program, P.O. Box 1300, 1313 South Main Street, Weaverville, CA 96093; telephone: (530) 623-1800; e-mail: jfaler@usbr.gov.

SUPPLEMENTARY INFORMATION: Under section 10(a)(2) of the Federal Advisory Committee Act (5 U.S.C. App.), this notice announces a meeting of the TAMWG.The meeting will include discussion of the following topics:

• TRRP FY 2012 budget and work plan,

• Temperature and reservoir management and recent CVO letter,

• Acting Executive Director's Report,

• Policies for work in tributary watersheds,

• Initial report on peak releases,

• Channel rehabilitation phase II planning update,

• TMC chair report,

• TAMWG bylaws, and

• Designated Federal Officer topics.

Completion of the agenda is dependent on the amount of time each item takes. The meeting could end early if the agenda has been completed.

Dated: April 21, 2011.
Joseph Polos,
Supervisory Fishery Biologist, Arcata Fish and Wildlife Office, Arcata, CA.

[FR Doc. 2011-10141 Filed 4-26-11; 8:45 am]

BILLING CODE 4310-55-P